NEIGHBORHOOD REINVESTMENT CORPORATION

Sunshine Act Meetings

TIME AND DATE: 11:00 a.m., Wednesday, May 19, 2021.

PLACE: Via Conference Call.

STATUS: This meeting will be open to the public.

MATTERS TO BE CONSIDERED: Special Board of Directors meeting.

Agenda

I. Call to Order

II. Discussion Item Strategic Planning Process Update and Potential Areas of Strategic Focus

III. Discussion

IV. Next Steps

V. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2021-10550 Filed 5-14-21; 11:15 am]

BILLING CODE 7570-02-P